DEPARTMENT OF TRANSPORTATION

Federal Aviation Administration

Notice of Opportunity for Public Comment on Disposal of 9.63 Acres of Airport Land at Laconia Municipal Airport in Gilford, NH

AGENCY: Federal Aviation Administration (FAA), DOT.

ACTION: Request for public comments.

SUMMARY: Notice is being given that the FAA is considering a request from the Laconia Airport Authority in Gilford, NH, to dispose of 9.63 acres of airport land that is not required for aviation purposes at Laconia Municipal Airport.

DATES: Comments must be received on or before June 19, 2017.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE., Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts 01803. Telephone: 781-238-7618.

SUPPLEMENTARY INFORMATION: Under the provisions of Title 49, U.S.C. Section 47153(d), FAA is considering a request from the Laconia Airport Authority in Gilford, NH, to dispose of 9.63 acres of airport land that is not required for aviation purposes at Laconia Municipal Airport.

The subject parcel has been identified as property no longer needed for aviation use by the Laconia Airport Authority (LAA). The property, Lot 3.200, located along to the northwest of the airport along the west side of Lily Pond Road (NH Route 11C) in the Town of Gilford. The property is located approximately a quarter mile northwest of the airport proper and has been identified by the Laconia Airport Authority as not needed for aviation use. Given the location of this parcel, the disposal of this property will have no effect on aviation land nor future development opportunities for the airport. The proceeds of the disposal will be placed in the airport's account and will be used for the operation and maintenance of the airport. Appropriate avigation easements will be placed on the property to ensure compatibility with the airport and the airport's airspace.

Issued in Burlington, Massachusetts on May 5, 2017.
Mary T. Walsh,
Manager, ANE-600.

[FR Doc. 2017-10197 Filed 5-18-17; 8:45 am]

BILLING CODE 4910-13-P